DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Cochise (FEMA Docket No.: B-1919) | City of Sierra Vista (18-09-1540P) | The Honorable Rick Mueller, Mayor, City of Sierra Vista, 1011 North Coronado Drive, Sierra Vista, AZ 85635 | Community Development Department, 1011 North Coronado Drive, Sierra Vista, AZ 85635 | Jun. 12, 2019 | 040017
Maricopa (FEMA Docket No.: B-1922) | City of Buckeye (18-09-2209P) | The Honorable Jackie A. Meck, Mayor, City of Buckeye, 530 East Monroe Avenue, Buckeye, AZ 85326 | Engineering Department, 530 East Monroe Avenue, Buckeye, AZ 85326 | Jul. 12, 2019 | 040039
Maricopa (FEMA Docket No.: B-1919) | City of Peoria (18-09-2141P) | The Honorable Cathy Carlat, Mayor, City of Peoria, 8401 West Monroe Street, Peoria, AZ 85345 | City Hall, 8401 West Monroe Street, Peoria, AZ 85345 | Jun. 21, 2019 | 040050
Maricopa (FEMA Docket No.: B-1913) | City of Phoenix (18-09-0732P) | The Honorable Thelda Williams, Mayor, City of Phoenix, City Hall, 200 West Washington Street, Phoenix, AZ 85003 | Street Transportation Department, 200 West Washington Street, 5th Floor, Phoenix, AZ 85003 | Jun. 14, 2019 | 040051
Maricopa (FEMA Docket No.: B-1913) | City of Scottsdale (18-09-0732P) | The Honorable W.J. “Jim” Lane, Mayor, City of Scottsdale, 3939 North Drinkwater Boulevard, Scottsdale, AZ 85251 | Planning Records, 7447 East Indian School Road, Suite 100, Scottsdale, AZ 85251 | Jun. 14, 2019 | 045012
Maricopa (FEMA Docket No.: B-1922) | Unincorporated Areas of Maricopa County (18-09-2209P) | The Honorable Bill Gates, Chairman, Board of Supervisors, Maricopa County, 301 West Jefferson Street, 10th Floor, Phoenix, AZ 85003 | Flood Control District of Maricopa County, 2801 West Durango Street, Phoenix, AZ 85009 | Jul. 12, 2019 | 040037
Mohave (FEMA Docket No.: B-1919) | City of Bullhead City (18-09-1188P) | The Honorable Tom Brady, Mayor, City of Bullhead City, 2355 Trane Road, Bullhead City, AZ 86442 | Public Works Department, 2355 Trane Road, Bullhead City, AZ 86442 | Jul. 2, 2019 | 040125
Pinal (FEMA Docket No.: B-1913) | Unincorporated Areas of Pinal County (18-09-1787P) | The Honorable Todd House, Chairman, Board of Supervisors, Pinal County, P.O. Box 827, Florence, AZ 85132 | Pinal County Engineering Division, 31 North Pinal Street, Building F, Florence, AZ 85132 | Jun. 14, 2019 | 040077
Yavapai (FEMA Docket No.: B-1913) | Town of Chino Valley (18-09-2295P) | The Honorable Darryl L. Croft, Mayor, Town of Chino Valley, Town Hall, 202 North State Route 89, Chino Valley, AZ 86323 | Development Services Department, 1982 Voss Drive, Chino Valley, AZ 86323 | Jun. 14, 2019 | 040094
California:
Kings (FEMA Docket No.: B-1913) | Unincorporated Areas of Kings County (18-09-1578P) | The Honorable Richard Valle, Chairman, Board of Supervisors, Kings County, 1400 West Lacey Boulevard, Hanford, CA 93230 | Kings County Community Development Agency, 1400 West Lacey Boulevard, Building 6, Hanford, CA 93230 | Jun. 17, 2019 | 060086
Los Angeles (FEMA Docket No.: B-1913) | Unincorporated Areas of Los Angeles County (18-09-1767P) | The Honorable Mark Ridley-Thomas, Chairman, Board of Supervisors, Los Angeles County, 500 West Temple Street, Room 358, Los Angeles, CA 90012 | Los Angeles County Public Works, Headquarters Watershed Management Division, 900 South Fremont Avenue, Alhambra, CA 91803 | Jun. 13, 2019 | 065043
Riverside (FEMA Docket No.: B-1913) | City of Beaumont (18-09-1668P) | The Honorable Nancy Carroll, Mayor, City of Beaumont, 550 East 6th Street, Beaumont, CA 92223 | Civic and Community Center, 550 East 6th Street, Beaumont, CA 92223 | Jun. 12, 2019 | 060247
Riverside (FEMA Docket No.: B-1922) | Unincorporated Areas of Riverside County (18-09-2125P) | The Honorable Kevin Jeffries, Chairman, Board of Supervisors, Riverside County, 4080 Lemon Street, 5th Floor, Riverside, CA 92501 | Riverside County Flood Control and Water Conservation District, 1995 Market Street, Riverside, CA 92502 | Jul. 12, 2019 | 060245
San Diego (FEMA Docket No.: B-1919) | City of San Diego (18-09-1129P) | The Honorable Kevin L. Faulconer, Mayor, City of San Diego, 202 C Street, 11th Floor, San Diego, CA 92101 | Development Services Department, 1222 1st Avenue, MS301, San Diego, CA 92101 | Jun. 19, 2019 | 060295
San Diego (FEMA Docket No.: B-1913) | Unincorporated Areas of San Diego County (18-09-1141P) | The Honorable Kristin Gaspar, Chair, Board of Supervisors, San Diego County, 1600 Pacific Highway, Room 335, San Diego, CA 92101 | San Diego County Flood Control District, Department of Public Works, 5510 Overland Avenue, Suite 410, San Diego, CA 92123 | Jun. 11, 2019 | 060284
Santa Cruz (FEMA Docket No.: B-1922) | City of Santa Cruz (18-09-2484P) | The Honorable Martine Watkins, Mayor, City of Santa Cruz, City Hall, 809 Center Street, Room 10, Santa Cruz, CA 95060 | Planning and Community Development Permits, Building, Zoning, 809 Center Street, Room 206, Santa Cruz, CA 95060 | Jul. 11, 2019 | 060355
Santa Cruz (FEMA Docket No.: B-1922) | Unincorporated Areas of Santa Cruz County (18-09-2484P) | The Honorable Ryan Coonerty, Chairman, Board of Supervisors, Santa Cruz County, 701 Ocean Street, Room 500, Santa Cruz, CA 95060 | Santa Cruz County Planning Department, 701 Ocean Street, 4th Floor, Santa Cruz, CA 95060 | Jul. 11, 2019 | 060353
Solano (FEMA Docket No.: B-1919) | City of Vacaville (18-09-0833P) | The Honorable Ron Rowlett, Mayor, City of Vacaville, 650 Merchant Street, Vacaville, CA 95688 | Planning and Engineering, 650 Merchant Street, Vacaville, CA 95688 | Jul. 1, 2019 | 060373
Trinity (FEMA Docket No.: B-1913) | Unincorporated Areas of Trinity County (18-09-1648P) | The Honorable Keith Groves, Chairman, Board of Supervisors, Trinity County, 11 Court Street, Room 230, Weaverville, CA 96093 | Trinity County Planning Department, 61 Airport Road, Weaverville, CA 96093 | Jun. 13, 2019 | 060401
Florida:
Bay (FEMA Docket No.: B-1919) | City of Panama City Beach (18-04-6432P) | The Honorable Mike Thomas, Mayor, City of Panama City Beach, City Hall, 110 South Arnold Road, Panama City Beach, FL 32413 | City Hall, 110 South Arnold Road, Panama City Beach, FL 32413 | Jun. 26, 2019 | 120013
Bay (FEMA Docket No.: B-1913) | Unincorporated Areas of Bay County (18-04-5961P) | Mr. Robert Majka, Jr., County Manager, Bay County, 840 West 11th Street, Panama City, FL 32401 | Bay County Planning and Zoning, 707 Jenks Avenue, Suite B, Panama City, FL 32401 | Jun. 14, 2019 | 120004
Duval (FEMA Docket No.: B-1922) | City of Jacksonville (18-04-6870P) | The Honorable Lenny Curry, Mayor, City of Jacksonville, 117 West Duval Street, Suite 400, Jacksonville, FL 32202 | City Hall, 117 West Duval Street, Jacksonville, FL 32202 | Jul. 16, 2019 | 120077
Miami-Dade (FEMA Docket No.: B-1919) | City of Miami (19-04-0054P) | The Honorable Tomas P. Regaldo, Mayor, City of Miami, 3500 Pan American Drive, Miami, FL 33133 | Emergency Management Department, 444 Southwest 2nd Avenue, 10th Floor, Miami, FL 33130 | Jul. 5, 2019 | 120650
St. Johns (FEMA Docket No.: B-1922) | Unincorporated Areas of St. Johns County (18-04-7400P) | Mr. Paul M. Waldron, Chair, St. Johns County Board of Commissioners, 500 San Sebastian View, St. Augustine, FL 32084 | St. Johns County Administration Building, 4020 Lewis Speedway, St. Augustine, FL 32085 | Jul. 23, 2019 | 125147
Hawaii: Hawaii (FEMA Docket No.: B-1919) | Hawaii County (18-09-2287P) | The Honorable Harry Kim, Mayor, County of Hawaii, 25 Aupuni Street, Suite 2603, Hilo, HI 96720 | Hawaii County Department of Public Works, Engineering Division, 101 Pauahi Street, Suite 7, Hilo, HI 96720 | Jun. 28, 2019 | 155166
Idaho: Blaine (FEMA Docket No.: B-1922) | Unincorporated Areas of Blaine County (18-10-1303P) | Mr. Jacob Greenberg, Chair, Blaine County Board of Commissioners, Old County Courthouse, 206 1st Avenue South, Suite 300, Hailey, ID 83333 | Blaine County Planning & Zoning, 219 1st Avenue South, Suite 208, Hailey, ID 83333 | Jul. 11, 2019 | 165167
Illinois:
Will (FEMA Docket No.: B-1926) | Unincorporated Areas of Will County (18-05-5975P) | The Honorable Lawrence M. Walsh, County Executive, Will County, Will County Office Building, 302 North Chicago Street, Joliet, IL 60432 | Land Use Department, 58 East Clinton Street, Suite 100, Joliet, IL 60432 | Jul. 12, 2019 | 170695
Will County (FEMA Docket No.: B-1919) | Village of Homer Glen (18-05-6035P) | The Honorable George Yukich, Mayor, Village of Homer Glen, 14240 West 151st Street, Homer Glen, IL 60491 | Village Hall, 14240 West 151st Street, Homer Glen, IL 60491 | Jul. 5, 2019 | 171080
Will (FEMA Docket No.: B-1926) | Village of Romeoville (18-05-5975P) | The Honorable John D. Noak, Mayor, Village of Romeoville, 1050 West Romeo Road, Romeoville, IL 60446 | Village Hall, 1050 West Romeo Road, Romeoville, IL 60446 | Jul. 12, 2019 | 170711
Indiana:
Allen (FEMA Docket No.: B-1919) | City of Fort Wayne (18-05-6504P) | The Honorable Tom Henry, Mayor, City of Fort Wayne, Citizens Square, 200 East Berry Street, Suite 420, Fort Wayne, IN 46802 | Department of Planning Services, 200 East Berry Street, Suite 150, Fort Wayne, IN 46802 | Jun. 26, 2019 | 180003
Marion (FEMA Docket No.: B-1913) | City of Indianapolis (19-05-0008P) | The Honorable Joe Hogsett, Mayor, City of Indianapolis, City-County Building, 200 East Washington Street, Suite 2501, Indianapolis, IN 46204 | City-County Building, 200 East Washington Street, Suite 1842, Indianapolis, IN 46204 | Jun. 21, 2019 | 180159
Iowa: Black Hawk (FEMA Docket No.: B-1919) | City of Waterloo (18-07-1103P) | The Honorable Quentin M. Hart, Mayor, City of Waterloo, 715 Mulberry Street, Waterloo, IA 50703 | City Hall, 715 Mulberry Street, Waterloo, IA 50703 | Jul. 1, 2019 | 190025
Kansas:
Johnson (FEMA Docket No.: B-1913) | City of Lenexa (18-07-1738P) | The Honorable Michael Boehm, Mayor, City of Lenexa, 8522 Caenen Lake Court, Lenexa, KS 66215 | City Hall, 12350 West 87th Street Parkway, Lenexa, KS 66215 | May 15, 2019 | 200168
Johnson (FEMA Docket No.: B-1919) | City of Shawnee (18-07-1853P) | The Honorable Michelle Distler, Mayor, City of Shawnee, Shawnee City Hall, 11110 Johnson Drive, Shawnee, KS 66203 | City Hall, 11110 Johnson Drive, Shawnee, KS 66203 | Jul. 3, 2019 | 200177
Johnson (FEMA Docket No.: B-1919) | City of Shawnee (18-07-2004P) | The Honorable Michelle Distler, Mayor, City of Shawnee, Shawnee City Hall, 11110 Johnson Drive, Shawnee, KS 66203 | City Hall, 11110 Johnson Drive, Shawnee, KS 66203 | Jun. 26, 2019 | 200177
Johnson (FEMA Docket No.: B-1922) | City of Shawnee (18-07-2109P) | The Honorable Michelle Distler, Mayor, City of Shawnee, Shawnee City Hall, 11110 Johnson Drive, Shawnee, KS 66203 | City Hall, 11110 Johnson Drive, Shawnee, KS 66203 | Jul. 10, 2019 | 200177
Johnson (FEMA Docket No.: B-1922) | City of Shawnee (18-07-2118P) | The Honorable Michelle Distler, Mayor, City of Shawnee, Shawnee City Hall, 11110 Johnson Drive, Shawnee, KS 66203 | City Hall, 11110 Johnson Drive, Shawnee, KS 66203 | Jul. 3, 2019 | 200177
Johnson (FEMA Docket No.: B-1922) | City of Shawnee (18-07-2146P) | The Honorable Michelle Distler, Mayor, City of Shawnee, Shawnee City Hall, 11110 Johnson Drive, Shawnee, KS 66203 | City Hall, 11110 Johnson Drive, Shawnee, KS 66203 | Jul. 17, 2019 | 200177
Michigan: Oakland (FEMA Docket No.: B-1913) | City of Rochester (18-05-2400P) | The Honorable Rob Ray, Mayor, City of Rochester, Rochester City Hall, 400 6th Street, Rochester, MI 48307 | City Hall, 400 6th Street, Rochester, MI 48307 | Jun. 14, 2019 | 260326
Minnesota:
Clay (FEMA Docket No.: B-1919) | City of Moorhead (18-05-1711P) | The Honorable Del Rae Williams, Mayor, City of Moorhead, City Hall, 500 Center Avenue, Moorhead, MN 56561 | City Hall, 500 Center Avenue, Moorhead, MN 56561 | May 17, 2019 | 275244
Clay (FEMA Docket No.: B-1919) | Unincorporated Areas of Clay County (18-05-1711P) | The Honorable Jenny Mongeau, Chair, Clay County Board of Commissioners, Clay County Courthouse, 807 11th Street North, Commission Room, 3rd Floor, Moorhead, MN 56560 | Clay County Courthouse, 8107 11th Street, Moorhead, MN 56560 | May 17, 2019 | 275235
Missouri: Jackson (FEMA Docket No.: B-1913) | City of Lee's Summit (18-07-0912P) | The Honorable Bill Baird, Mayor, City of Lee's Summit, 220 Southeast Green Street, Lee's Summit, MO 64063 | City Hall, 220 Southeast Green Street, Lee's Summit, MO 64063 | Jun. 13, 2019 | 290174
Nebraska: Douglas (FEMA Docket No.: B-1913) | City of Omaha (18-07-0801P) | The Honorable Jean Stothert, Mayor, City of Omaha, Office of The Mayor, 1819 Farnam Street, Suite 300, Omaha, NE 68183 | Civic Center, 1819 Farnam Street, Omaha, NE 68183 | Jun. 20, 2019 | 315274
Nevada:
Clark (FEMA Docket No.: B-1913) | City of Henderson (18-09-2045P) | The Honorable Debra March, Mayor, City of Henderson, 240 South Water Street, Henderson, NV 89015 | Public Works Department, 240 South Water Street, Henderson, NV 89015 | Jun. 11, 2019 | 320005
Clark (FEMA Docket No.: B-1919) | City of North Las Vegas (18-09-2027P) | The Honorable John J. Lee, Mayor, City of North Las Vegas, 2250 Las Vegas Boulevard North, North Las Vegas, NV 89030 | Public Works Department, 2250 Las Vegas Boulevard North, Suite 200, North Las Vegas, NV 89030 | Jul. 3, 2019 | 320007
Clark (FEMA Docket No.: B-1922) | Unincorporated Areas of Clark County (18-09-2382P) | The Honorable Marilyn Kirkpatrick, Chair, Board of Commissioners, Clark County, 500 South Grand Central Parkway, 6th Floor, Las Vegas, NV 89106 | Clark County, Office of the Director of Public Works, 500 South Grand Central Parkway, 2nd Floor, Las Vegas, NV 89155 | Jul. 17, 2019 | 320003
Ohio:
Fairfield (FEMA Docket No.: B-1913) | City of Lancaster (18-05-6407P) | The Honorable David S. Smith, Mayor, City of Lancaster, 104 East Main Street, Room 101, Lancaster, OH 43130 | Municipal Building, 121 East Chestnut Street, Suite 100, Lancaster, OH 43130 | Jun. 17, 2019 | 390161
Lake (FEMA Docket No.: B-1913) | Unincorporated Areas of Lake County (18-05-2719P) | Mr. John R. Hamercheck, Commissioner, Lake County, 105 Main Street, 4th Floor, Painesville, OH 44077 | Lake County Engineer's Office, 550 Blackbrook Road, Painesville, OH 44077 | Jun. 19, 2019 | 390771
Lorain (FEMA Docket No.: B-1919) | City of Avon Lake (18-05-3982P) | The Honorable Greg Zilka, Mayor, City of Avon Lake, City Hall, 150 Avon Belden Road, Avon Lake, OH 44012 | City Hall, 150 Avon Belden Road, Avon Lake, OH 44012 | Jun. 26, 2019 | 390602
South Carolina:
Greenville (FEMA Docket No.: B-1922) | Unincorporated Areas of Greenville County (18-04-5790P) | The Honorable Joseph Kernell Greenville County Administrator 301 University Ridge, Suite 2400, Greenville, SC 29601 | Greenville County Planning and Code Compliance Division 301 University Ridge, Suite 4100, Greenville, SC 29601 | Jul. 16, 2019 | 450089
Richland (FEMA Docket No.: B-1913) | Unincorporated Areas of Richland County (18-04-5530P) | The Honorable Joyce Dickerson, Chair, Richland County Council, 2020 Hampton Street, Columbia, SC 29201 | Richland County Department of Public Works, 400 Powell Street, Columbia, SC 29203 | Jun. 17, 2019 | 450170
Washington:
Island (FEMA Docket No.: B-1919) | Unincorporated Areas of Island County (18-10-1156P) | Ms. Jill Johnson, Chair, Island County, Commissioners Administration Building, 1 Northeast 7th Street, Room 214, Coupeville, WA 98239 | Island County Courthouse Annex, 1 Northeast 6th Street, Coupeville, WA 98239 | Jun. 27, 2019 | 530312
Pierce (FEMA Docket No.: B-1919) | City of Puyallup (19-10-0145P) | The Honorable John Palmer, Mayor, City of Puyallup, Puyallup City Hall, 333 South Meridian, Puyallup, WA 98371 | City Hall, 333 South Meridian, Puyallup, WA 98371 | Jun. 28, 2019 | 530144
Wisconsin: Sheboygan (FEMA Docket No.: B-1913) | Unincorporated Areas of Sheboygan County (19-05-0048P) | Mr. Roger L. Te Stroete, County Board Supervisor, Sheboygan County, 508 New York Avenue, 3rd Floor, Room 311, Sheboygan, WI 53081 | Sheboygan County Administration Building, 508 New York Avenue, Sheboygan, WI 53081 | May 14, 2019 | 550424

[FR Doc. 2019-17577 Filed 8-15-19; 8:45 am]

BILLING CODE 9110-12-P